ENVIRONMENTAL PROTECTION AGENCY

[A-1-FRL-9431-8]

Approval of Outer Continental Shelf (OCS) Permit Issued to Cape Wind Associates, LLC (EPA Permit Number OCS-R1-01)

AGENCY: Environmental Protection Agency (EPA).

ACTION: Notice of final action.

SUMMARY: This document announces that on June 2, 2011, the Environmental Protection Agency (EPA) issued a final Outer Continental Shelf (OCS) air permit decision regarding Cape Wind Associates, LLC (Cape Wind). The OCS permit, which was issued pursuant to regulations, authorizes Cape Wind to construct and operate an offshore renewable wind energy project in federal waters off the coast of Massachusetts.

DATES: Effective Date: EPA's OCS permit for Cape Wind became effective on June 2, 2011. Pursuant to Section 307(b)(1) of the Clean Air Act (CAA), 42 U.S.C. 7607(b)(1), judicial review of this permit decision, to the extent it is available, may be sought by filing a petition for review in the United States Court of Appeals for the First Circuit by September 9, 2011.

ADDRESSES: Cape Wind's final permit, original and supplemental OCS permit applications, draft OCS permit, fact sheet, and other supporting documents are available either electronically through http://www.epa.gov/NE/communities/nseemissions.html or in hard copy at the Office of Ecosystem Protection, U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 to 4:30, excluding legal holidays.

FOR FURTHER INFORMATION CONTACT: Brendan McCahill, EPA Region 1, (617) 918-1652, or send an e-mail to mccahill.brendan@epa.gov.

SUPPLEMENTARY INFORMATION: Throughout this document, “we,” “us” and “our” refer to EPA.

On January 7, 2011, EPA issued a final permit (OCS Permit No. OCS-R1-01) for the Cape Wind project. On February 9, 2011, the Alliance to Protect Nantucket Sound and the Wampanoag Tribe of Gay Head/Aquinnah submitted a petition to EPA's Environmental Appeals Board (EAB) seeking review of the final permit (OCS Appeal No. 11-01). On May 20, 2011, the EAB denied the petition for review of the permit. Readers interested in more detail on the appeal issues raised by the petitioners and the reasons for the EAB's denial of review may download EAB's Order Denying Review from the EAB Web site at http://www.epa.gov/eab. On June 2, 2011, pursuant to 40 CFR 124.19(f)(1), EPA sent a Notice of Final Permit Decision to Cape Wind, the Alliance to Protect Nantucket Sound, and the Wampanoag Tribe of Gay Head/Aquinnah, notifying them that the conditions of the permit took effect on June 2, 2011.

Under 40 CFR 55.6(a)(3), when EPA issues OCS permits it must follow the procedures in 40 CFR part 124 that are used to issue PSD permits. This notice is being published pursuant to 40 CFR 124.19(f)(2), which requires notice of any final agency action regarding a PSD (or, in this case, non-PSD OCS) permit to be published in the Federal Register. This notice constitutes notice of EPA's final agency action denying review of the final permit and, consequently, notice of EPA New England's issuance of the final permit decision to Cape Wind. If available, judicial review of these determinations under section 307(b)(1) of the CAA may be sought only by the filing of a petition for review in the United States Court of Appeals for the First Circuit, within 60 days from the date on which this notice is published in the Federal Register. Under section 307(b)(2) of the CAA, this determination shall not be subject to later judicial review in any civil or criminal proceedings for enforcement.

Dated: June 22, 2011.
Ira W. Leighton,
Acting Regional Administrator, EPA New England.

[FR Doc. 2011-17260 Filed 7-8-11; 8:45 am]

BILLING CODE 6560-50-P